DEPARTMENT OF TRANSPORTATION

Federal Aviation Administration

14 CFR Part 39

[Docket No. FAA-2014-0478; Directorate Identifier 2014-SW-017-AD; Amendment 39-17902; AD 2014-07-51]

RIN 2120-AA64

Airworthiness Directives; AgustaWestland S.p.A. Helicopters

AGENCY: Federal Aviation Administration (FAA), Department of Transportation (DOT).

ACTION: Final rule; request for comments.

SUMMARY: We are publishing a new airworthiness directive (AD) for certain AgustaWestland S.p.A. Model AB139 and AW139 helicopters. This AD requires repetitively inspecting the Main Rotor (M/R) Rotating Scissors for play of the Lower Half Scissor Spherical Bearing (bearing) and removing the bearing if there is play beyond allowable limits. This AD also requires removing all affected bearings. This AD is prompted by reports of certain bearings dislodging from certain M/R Rotating Scissors. These actions are intended to detect excessive play of the bearing and prevent failure of the M/R Rotating Scissors and subsequent loss of control of the helicopter.

DATES: This AD becomes effective August 20, 2014 to all persons except those persons to whom it was made immediately effective by Emergency AD (EAD) No. 2014-07-51, issued on March 27, 2014, which contains the requirements of this AD.

The Director of the Federal Register approved the incorporation by reference of certain documents listed in this AD as of August 20, 2014.

We must receive comments on this AD by October 6, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, any incorporated by reference service information, the economic evaluation, any comments received, and other information. The street address for the Docket Operations Office (telephone 800-647-5527) is in the ADDRESSES section. Comments will be available in the AD docket shortly after receipt.

For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On March 27, 2014, we issued EAD No. 2014-07-51, which requires repetitively inspecting the M/R Rotating Scissors for play of the bearing every 5 hours time-in-service (TIS) and, if there is play beyond allowable limits, removing the affected bearing and re-identifying the M/R Rotating Scissors. The EAD also requires removing all affected bearings within 50 hours TIS. The EAD was prompted by reports of certain bearings dislodging from certain M/R Rotating Scissors. The EAD was sent previously to all known U.S. owners and operators of these helicopters.

EAD No. 2014-07-51 was prompted by EAD No. 2014-0073-E, dated March 20, 2014, issued by EASA, which is the Technical Agent for the Member States of the European Union, to correct an unsafe condition for AgustaWestland S.p.A. Model AB139 and AW139 helicopters. EASA advises of reports of the dislodging of bearings, part number (P/N) 3G6230V00654, that were installed on M/R Rotating Scissors, P/N 3G6230A00733. EASA also states that as a result of the investigations accomplished by the supplier of the bearings, it was determined that a quality issue might have affected the production of the bearings. EASA advises that the condition, if not detected and corrected, could lead to loss of control of the helicopter. The EASA EAD requires repetitive inspections of certain M/R Rotating Scissors, P/N 3G6230A00733, that have been manufactured or repaired with the installation of certain potentially defective bearings, P/N 3G6230V00654. The EASA EAD also requires replacement of the affected bearings, or as an alternative, replacement of theM/R Rotating Scissors with an affected bearing, which constitutes terminating action for the repetitive inspections required by the EAD.

This final rule makes the requirements of EAD No. 2014-07-51, issued March 27, 2014, effective to all parties except those to whom they were made immediately effective through EAD 2014-07-51. This AD contains the requirements of EAD 2014-07-51 with minor editorial changes to revise the references to “the Applicability section of this EAD” in paragraphs (e)(3), (e)(4), and (e)(5) of this AD to “paragraph (a) of this AD.” These minor editorial change are consistent with the requirements of the EAD and do not increase the economic burden on any operator.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs.

Related Service Information

AgustaWestland issued Bollettino Tecnico No. 139-368, dated March 19, 2014 (BT), for Model AB139 and AW139 helicopters with certain serial numbered (S/Ned) M/R Rotating Scissors, P/N 3G6230A00733; or M/R Rotating Scissors, P/N 3G6230A00733, which have been repaired with the installation of certain S/Ned bearings, P/N 3G6230V00654. The BT also applies to affected parts kept in stock. The BT was issued to identify and replace potentially defective bearings caused by a supplier quality issue. The BT also establishes an interim inspection schedule to reduce impact on operations.

We also reviewed AgustaWestland AW139 Document Code 39-C-62-31-00-00A-286C-A, issue 001, dated August 6, 2012, for Model AB139 and AW139 helicopters to specify the detailed inspection of the fixed swashplate and rotating scissors.

AD Requirements

This AD requires, within 5 hours TIS and thereafter at intervals not to exceed 5 hours TIS, inspecting the M/R Rotating Scissors for play of the bearing. If there is play, this AD requires, before further flight, a more detailed inspection of the M/R Rotating Scissors. If the detailed inspection results determine the play is beyond allowable limits, this AD requires, before further flight, removing the bearing and re-identifying the M/R Rotating Scissors. This AD also requires, within 50 hours TIS, removing any affected bearing.

Costs of Compliance

We estimate that this AD will affect 102 helicopters of U.S. Registry. We estimate that operators may incur the following costs in order to comply with this AD. Labor costs are estimated at $85 per work-hour. Inspecting the M/R Rotating Scissors for play of the bearing requires a minimal amount of time, for a nominal cost per inspection. Performing the detailed inspection of the M/R Rotating Scissors requires about 1 work-hour, for a cost of $85 per inspection. Removing a bearing requires about 2 work-hours, for a labor cost of $170 per bearing. Parts for replacing one bearing cost $808, for a total replacement cost of $978 per bearing, or $99,756 for the U.S. fleet.

According to AgustaWestland's service information, some of the costs of this AD may be covered under warranty, thereby reducing the cost impact on affected individuals. We do not control warranty coverage by AgustaWestland. Accordingly, we have included all costs in our cost estimate.

FAA's Justification and Determination of the Effective Date

Providing an opportunity for public comments prior to adopting these AD requirements would delay implementing the safety actions needed to correct this known unsafe condition. Therefore, we found and continue to find that the risk to the flying public justifies waiving notice and comment prior to the adoption of this rule because the previously described unsafe condition can adversely affect the controllability of the helicopter and the required corrective actions must be accomplished within 5 hours TIS and 50 hours TIS, a short time period based on the average flight-hour utilization rate of these helicopters.

Since it was found that immediate corrective action was required, notice and opportunity for prior public comment before issuing this AD were impracticable and contrary to public interest and good cause existed to make the AD effective immediately by EAD No. 2014-07-51, issued on March 27, 2014, to all known U.S. owners and operators of these helicopters. These conditions still exist and the AD is hereby published, with a minor editorial change, in the Federal Register as an amendment to section 39.13 of the Federal Aviation Regulations (14 CFR 39.13) to make it effective to all persons.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-07-51 AgustaWestland S.p.A. (Agusta): Amendment 39-17902; Docket No. FAA-2014-0478; Directorate Identifier 2014-SW-017-AD.

(a) Applicability

This AD applies to the following Agusta Model AB139 and AW139 helicopters, certificated in any category:

(1) For helicopters with Main Rotor (M/R) Rotating Scissors, part number (P/N) 3G6230A00733, with serial numbers (S/Ns) listed in Table 1 of AgustaWestland Bollettino Tecnico No. 139-368, dated March 19, 2014 (BT 139-368), on which the Lower Half Scissors Spherical Bearing (bearing),P/N 3G6230V00654, was not replaced; and

(2) For helicopters with M/R Rotating Scissors, P/N 3G6230A00733, on which the bearing, P/N 3G6230V00654, was replaced with a bearing with a S/N listed in Table 2 of BT 139-368.

(b) Unsafe Condition

This AD defines the unsafe condition as excessive play of the bearing in the M/R Rotating Scissors. This condition could result in failure of the M/R Rotating Scissors and subsequent loss of control of the helicopter.

(c) Effective Date

This AD becomes effective August 20, 2014 to all persons except those persons to whom it was made immediately effective by Emergency AD (EAD) No. 2014-07-51, issued on March 27, 2014, which contains the requirements of this AD.

(d) Compliance

You are responsible for performing each action required by this AD within the specified compliance time unless it has already been accomplished prior to that time.

(e) Required Actions

(1) Within 5 hours time-in-service (TIS) and thereafter at intervals not to exceed 5 hours TIS, inspect the M/R Rotating Scissors for play of the bearing in accordance with paragraph 4. of Part I, Compliance Instructions, of BT 139-368.

(2) If there is play, before further flight, accomplish a detailed inspection of the M/R Rotating Scissors in accordance with steps 9.1 through 12.9 of AgustaWestland AW139 Document Code 39-C-62-31-00-00A-286C-A, Rotating control installation—Fixed swashplate and rotating scissors—Detailed inspection, issue 001, dated August 6, 2012. If there is play beyond allowable limits, before further flight, remove the bearing.

(3) Within 50 hours TIS, remove any bearing listed in paragraph (a) of this AD.

(4) Prior to installing a M/R Rotating Scissors with a S/N listed in paragraph (a) of this AD, replace the bearing and re-identify the M/R Rotating Scissors in accordance with paragraphs 4.2. through 4.4. of Part II, Compliance Instructions, of BT 139-368.

(5) Do not install a bearing listed in paragraph (a) of this AD into any M/R Rotating Scissors.

(f) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) EAD No. 2014-0073-E, dated March 20, 2014. You may view the EASA EAD on the Internet at http://www.regulations.gov in Docket No. FAA-2014-0478.

(h) Subject

Joint Aircraft Service Component (JASC) Code: 6200, M/R System.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) AgustaWestland Bollettino Tecnico No. 139-368, dated March 19, 2014.

(ii) AgustaWestland AW139 Document Code 39-C-62-31-00-00A-286C-A, Rotating control installation—Fixed swashplate and rotating scissors—Detailed inspection, issue 001, dated August 6, 2012.

(3) For AgustaWestland service information identified in this AD, contact AgustaWestland, Product Support Engineering, Via del Gregge, 100, 21015 Lonate Pozzolo (VA) Italy, ATTN: Maurizio D'Angelo; telephone 39-0331-664757; fax 39 0331-664680; or at http://www.agustawestland.com/technical-bulletins.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on July 11, 2014.
Kim Smith,
Directorate Manager, Rotorcraft Directorate, Aircraft Certification Service.

[FR Doc. 2014-18298 Filed 8-4-14; 8:45 am]

BILLING CODE 4910-13-P